ENVIRONMENTAL PROTECTION AGENCY

[EPA-R01-OW-2006-0567; FRL-8189-6]

Maine Marine Sanitation Device Standard—Notice of Determination

AGENCY: Environmental Protection Agency (EPA).

ACTION: Notice.

SUMMARY: I, the Regional Administrator of the Environmental Protection Agency—New England Region, have determined that adequate facilities for the safe and sanitary removal and treatment of sewage from all vessels are reasonably available for the Casco Bay area covered under this determination.

ADDRESSES: Docket: All documents in the docket are listed in the www.regulations.gov index. Although listed in the index, some information is not publicly available, e.g., CBI or other information whose disclosure is restricted by statute. Certain other material, such as copy-righted material, will be publicly available only in hard copy. Publicly available docket materials are available electronically in www.regulations.gov.

FOR FURTHER INFORMATION CONTACT: Ann Rodney, U.S. Environmental Protection Agency—New England Region, One Congress Street, Suite 1100, Mailcode-COP, Boston, MA 02114-2023. Telephone: (617) 918-0538, Fax number: (617) 918-1505; e-mail address: Rodney.ann@epa.gov.

SUPPLEMENTARY INFORMATION: This Notice of Determination is for Casco Bay, Maine. The area of the Bay to be included in the designation includes all contiguous waters north and east of 43°33′56.04″ N-70°11′48.22″ W at Cape Elizabeth Light in Cape Elizabeth, to a point 43°42′17.65″ N-69°51′17.70″ W at Bald Point in Phippsburg. The area also includes the navigable reaches of the Fore River, Presumpscot River, Royal River, Cousins River, Harraseeket River, and the New Meadows River.

On February 17, 2006, notice was published that the State of Maine had petitioned the Regional Administrator, Environmental Protection Agency, to determine that adequate facilities for the safe and sanitary removal and treatment of sewage from all vessels are reasonably available for Casco Bay, the area includes all contiguous waters north and east of 43°33′56.04″ N-70°11′48.22″ W at Cape Elizabeth Light in Cape Elizabeth, to a point 43°42′17.65″ N-69°51′17.70″ W at Bald Point in Phippsburg. The area also includes the navigable reaches of the Fore River, Presumpscot River, Royal River, Cousins River, Harraseeket River, and the New Meadows River.

The petition was filed pursuant to section 312(f)(3) of Public Law 92-500, as amended by Public Laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to me by the State of Maine certifies that there are 20 pumpout facilities located within the proposed area. A list of the facilities, with phone numbers, locations, and hours of operation is appended at the end of this determination.

Based on the examination of the petition and its supporting documentation and information from site visits by EPA New England staff, I have determined that adequate facilities for the safe and sanitary removal and treatment of sewage from all vessels are reasonably available for the area covered under this determination. The area of the Bay to be included in the designation includes all contiguous waters north and east of 43°33′56.04″ N-70°11′48.22″ W at Cape Elizabeth Light in Cape Elizabeth, to a point 43°42′17.65″ N-69°51′17.70″ W at Bald Point in Phippsburg. The area also includes the navigable reaches of the Fore River, Presumpscot River, Royal River, Cousins River, Harraseeket River, and the New Meadows River.

This determination is made pursuant to section 312(f)(3) of Public Law 92-500, as amended by Public Laws 95-217 and 100-4.

EPA has prepared a response to the eight comments it received during the 45-day comment period, which may be requested from EPA by writing to: Ann Rodney, U.S. EPA New England, One Congress Street, Suite 1100, mail code-COP, Boston, MA 02114-2023.

List of Pumpouts in the Area
Location/waterbody | Name/company | Contact information | Hours of operation | Minimum depth
New Meadows River, Brunswick | New Meadows Marina | 207-443-6277 VHF CH 9 | June-Sept 8 a.m.-5 p.m. M-F Weekend by appt. | 4′
Merepoint Bay, Brunswick | Paul's Marina | 207-729-3067 VHF 9 | June-Sept Self Serve 24/7 | 10′
Casco Bay, Falmouth | Falmouth Public Landing | 207-781-7317 VHF 9 | June-Sept Self Serve 24/7 | 10′
Casco Bay, Falmouth | Handy Boat | 207-781-5110 VHF 9 | June-Sept. 8 a.m.-8 p.m. 7 days | 4′
Casco Bay, Freeport | Brewers South Freeport Marine | 207-865-3181 VHF 9 | June-Sept. 8 a.m.-8 p.m. 7 days | 10′
Casco Bay, Freeport | Strouts Point Wharf | 207-865-3899 VHF 9 | June-Sept. 8 a.m.-8 p.m. 7 days | 10′
Potts Harbor, Harpswell | Dolphin Marine Services | 207-833-6000 VHF 9 | June-Sept. 8 a.m.-8 p.m. 7 days | 10′
Orrs Harbor, Harpswell | Great Island Boatyard | 207-729-1639 VHF 9 | June-Sept. 8 a.m.-8 p.m. 7 days | 10′
Sebasco Harbor, Phippsburg | Sebasco Harbor Resort | 207-389-1161 VHF 9 | June-Sept. 8 a.m.-8 p.m. 7 days | 6′
Di a.m.ond Cove, Portland | Di a.m.ond Cove Marina | 207-766-5850 VHF 9 | June-Sept. 8 a.m.-8 p.m. 7 days | 6′
Portland Harbor, Portland | DiMillos Old Port Marina | 207-773-7632 VHF 9 | May-Oct. 8 a.m.-8 p.m. 7 days | 10′
Portland Harbor, Portland | Maine Yacht Center | 207-842-9000 VHF 9 | June-Sept. 8 a.m.-8 p.m. 7 days | 10′
Portland Harbor, Portland | Portland Yacht Services | 207-774-1067 VHF 9 | June-Sept. 8 a.m.-8 p.m. 7 days | 10′
Fore River, South Portland | City of South Portland | 207-767-3201 VHF 9 | June-Sept. 8 a.m.-8 p.m. 7 days | 6′
Casco Bay, South Portland | Friends Of Casco Bay | 207-776-0136 VHF 9 | June-Sept. By apt. | 10′
Portland Harbor, South Portland | South Port Marine | 207-799-8191 VHF 9 | June-Sept. 8 a.m.-8 p.m. 7 days | 4′
Portland Harbor, South Portland | Spring Point Marina | 207-767-3213 VHF 9 | June-Sept. 8 a.m.-8 p.m. 7 days | 10′
Portland Harbor, South Portland | Sunset Marina | 207-767-4729 VHF 9 | June-Sept. 8 a.m.-8 p.m. 7 days | 6′
Portland Harbor, South Portland | Aspasia Marina | 207-767-3010 VHF 9 | June-Sept. 8 a.m.-8 p.m. 7 days | 10′
Royal River, Yarmouth | Yankee Marina | 207-846-4326 VHF 9 | June-Sept. 8 a.m.-8 p.m. 7 days | 6′
Royal River, Yarmouth | Yarmouth Boat Yard | 207-846-9050 VHF 9 | June-Sept. 8 a.m.-8 p.m. 7 days | 10′

Dated: June 21, 2006.
Robert W. Varney,
Regional Administrator, Region 1.

[FR Doc. E6-10092 Filed 6-26-06; 8:45 a.m.]

BILLING CODE 6560-50-P